NATIONAL LABOR RELATIONS BOARD

Notice of Sunshine Act Meetings: September 2013

TIME AND DATES: All meetings are held at 2:00 p.m.

Tuesday, September 10;

Wednesday, September 11;

Thursday, September 12;

Tuesday, September 17;

Wednesday, September 18;

Thursday, September 19;

Tuesday, September 24;

Wednesday, September 25;

Thursday, September 26.

PLACE: Board Agenda Room, No. 11820, 1099 14th St, NW., Washington, DC 20570.

STATUS: Closed.

MATTERS TO BE CONSIDERED: Pursuant to § 102.139(a) of the Board's Rules and Regulations, the Board or a panel thereof will consider “the issuance of a subpoena, the Board's participation in a civil action or proceeding or an arbitration, or the initiation, conduct, or disposition . . . of particular representation or unfair labor practice proceedings under section 8, 9, or 10 of the [National Labor Relations] Act, or any court proceedings collateral or ancillary thereto.” See also 5 U.S.C. 552b(c)(10).

CONTACT PERSON FOR MORE INFORMATION: Henry Breiteneicher, Associate Executive Secretary, (202) 273-2917

Dated: September 10, 2013.
William B. Cowen,
Solicitor.

[FR Doc. 2013-22366 Filed 9-10-13; 4:15 pm]

BILLING CODE 7545-01-P